DEPARTMENT OF THE INTERIOR

Bureau of Land Management

[12X.LLAK942000.L54200000.FR0000.LVDIL12L0550; AA094268]

Notice of Application for a Recordable Disclaimer of Interest for Lands Underlying the Taku River in Alaska

AGENCY: Bureau of Land Management, Interior.

ACTION: Notice.

SUMMARY: The State of Alaska has filed an application with the Bureau of Land Management (BLM) for a Recordable Disclaimer of Interest (RDI) from the United States in those lands underlying the Taku River located in southeast Alaska. The State of Alaska asserts that the Taku River was navigable and unreserved at the time of Alaska Statehood in 1959.

DATES: The BLM must receive all comments to this action on or before September 18, 2018.

ADDRESSES: You may submit comments by mail or email on the State of Alaska's application for an RDI or on the BLM draft “Summary Report on Federal Interest in Lands underlying the Taku River in Alaska.” To file comments by mail, send to RDI Program Manager (AK-942), Division of Lands and Cadastral, BLM Alaska State Office, 222 West 7th Avenue, #13, Anchorage, AK 99513. To submit comments by email, send to anichols@blm.gov.

FOR FURTHER INFORMATION CONTACT: Angie Nichols, RDI Program Manager, 222 West 7th Avenue, #13, Anchorage, AK 99513; 907-271-3359; anichols@blm.gov; or visit the BLM Recordable Disclaimer of Interest website at https://www.blm.gov/programs/lands-and-realty/regional-information/alaska/RDI/southeast.

People who use a telecommunications device for the deaf (TDD) may call the Federal Relay System (FRS) at 1-800-877-8339 to contact the above individual during normal business hours. The FRS is available 24 hours a day, 7 days a week, to leave a message or a question with the above individual. You will receive a reply during normal business hours.

SUPPLEMENTARY INFORMATION: On March 14, 2017, the State of Alaska filed an application (AA-94268) for an RDI pursuant to Section 315 of the Federal Land Policy and Management Act of 1976 (FLPMA) and the regulations contained in 43 CFR 1864 for the lands underlying the Taku River in Alaska. The State asserts that this river was navigable at the time of Alaska Statehood. As such, the State contends that ownership of the lands underlying the Taku River automatically passed from the United States to the State of Alaska in 1959 at the time of Statehood under the Equal Footing Doctrine, the Submerged Lands Act of 1953, the Alaska Statehood Act, and other title navigability law.

Section 315 of FLPMA authorizes the BLM to issue an RDI when it determines that a record interest of the United States in lands has terminated by law or is otherwise invalid, and a disclaimer would help remove a cloud on title to such lands.

The State's application is for an RDI for all submerged lands between the ordinary high water mark of the left and right banks of the Taku River, beginning at the 60-foot boundary reserve within sections 10, 11, and 14; township 38 south; range 71 east; Copper River Meridian, Alaska; to the extent of tidal influence, regardless of location. The State listed the Taku River's coverage on the USGS 1:63,360 series topographic map Taku River B-6, (1951, minor revisions 1971); Taku River C-6 (1995); Taku River C-5, (1960) and Juneau B-1 quadrangles. The precise location may be within other townships due to the ambulatory nature of these water bodies.

The RDI is a legal document through which the BLM disclaims the United States' interest in or ownership of specified lands, but the disclaimer does not grant, convey, transfer, or renounce any title or interest in the lands, nor does it release any tax, judgment, or lien. This Notice of Application for a RDI is to inform the public of the pending application and the State of Alaska's supporting evidence, as well as to provide the opportunity to comment or provide additional information to the BLM.

The BLM will not make a final decision on the merits of the State's application before September 18, 2018.

During this 90-day period, interested parties may comment on the State's application, AA-94268, and supporting evidence. Interested parties may also comment on the BLM's draft “Summary Report on Federal Interest in Lands underlying the Taku River in Alaska” for the State's application for the RDI, which is available on the BLM's RDI website (see FOR FURTHER INFORMATION CONTACT above).

Copies of the State application, supporting evidence, the BLM Draft Summary Report, and comments, including names and street addresses of commenters, will be available in Anchorage for public review at the BLM Alaska State Office, Public Information Center (Public Room), Fitzgerald Federal Building, 222 West 8th Avenue, Monday through Friday, during regular business hours 8 a.m. to 4 p.m., except holidays.

Before including your address, phone number, email address, or other personally identifying information in your comment, you should be aware that your entire comment, including your personally identifying information, may be made publicly available at any time. While you can ask the BLM in your comment to withhold your personally identifying information from public review, we cannot guarantee that we will be able to do so.

If the BLM determines the State's evidence, and any additional information the agency receives concerning the State's application, are sufficient to find a favorable determination, and neither the records nor a valid objection discloses a reason not to disclaim, the BLM may decide to approve the application for the RDI.

Authority: 43 CFR 1864.2

Erika L. Reed,
Deputy State Director, Division of Lands and Cadastral, Alaska.

[FR Doc. 2018-13243 Filed 6-19-18; 8:45 am]

BILLING CODE 4310-JA-P